DEPARTMENT OF AGRICULTURE

Agricultural Marketing Service

[Doc. No AMS-FGIS-21-0043]

Opportunity for Designation in the West Lafayette, Indiana Area; Request for Comments on the Official Agency Servicing This Area

AGENCY: Agricultural Marketing Service, USDA.

ACTION: Notice.

SUMMARY: The designation of the official agency listed in SUPPLEMENTARY INFORMATION below will end on the prescribed date. We are asking persons or governmental agencies interested in providing official services in the area presently served by this agency to submit an application for designation. The Agricultural Marketing Service (AMS) encourages submissions from traditionally underrepresented individuals, organizations, and businesses to reflect the diversity of this industry. AMS encourages submissions from qualified applicants, regardless of race, color, age, sex, sexual orientation, gender identity, national origin, religion, disability status, protected veteran status, or any other characteristic protected by law. In addition, we are asking for comments on the quality of services provided by the following designated agency: Titus Grain Inspection, Inc. (Titus).

DATES: Applications and comments must be received by July 28, 2021.

ADDRESSES: Submit applications and comments concerning this Notice using any of the following methods:

• To apply for Designation: Use FGISonline (https://fgisonline.ams.usda.gov) and then click on the Delegations/Designations and Export Registrations (DDR) link. You will need to obtain an FGISonline customer number and USDA eAuthentication username and password prior to applying.

• To submit Comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

Read Applications and Comments: All comments will be available for public inspection online at http://www.regulations.gov. If you would like to view the applications, please contact us at FGISQACD@usda.gov (7 CFR 1.27(c)).

FOR FURTHER INFORMATION CONTACT: Jessica Dreier at FGISQACD@usda.gov.

SUPPLEMENTARY INFORMATION: The designation of the official agency listed below will end on the prescribed date:

Official agency | Headquarters location and telephone | Designation end
Titus Grain Inspection, Inc | West Lafayette, IN, 765-497-2202 | 6/30/2021

Section 7(f) of the United States Grain Standards Act (USGSA) authorizes the Secretary to designate a qualified applicant to provide official services in a specified area after determining that the applicant is better able than any other applicant to provide such official services (7 U.S.C. 79(f)). Under section 7(g) of the USGSA, designations of official agencies are effective for no longer than five years, unless terminated by the Secretary, and may be renewed according to the criteria and procedures prescribed in section 7(f) of the USGSA.

Areas Open for Designation

Titus: Area of designation includes parts of Indiana. Please see the March 29, 2016, issue of the Federal Register (81 FR 17431) for the description of the area in Lafayette, Indiana, open for designation.

Opportunity for Designation

Interested persons or governmental agencies may apply for designation to provide official services in the geographic area of the official agency specified above under the provisions of section 7(f) of the USGSA and 7 CFR 800.196. Designation in the specified geographic area for Titus begins July 1, 2021. To apply for designation or to request more information on the geographic area serviced by this official agency, contact Jessica Dreier at the address listed above.

Request for Comments

We are publishing this Notice to provide interested persons the opportunity to comment on the quality of services provided by the Titus official agency. In the designation process, we are particularly interested in receiving comments citing reasons and pertinent data supporting or objecting to the designation of the applicant. Such comments should be submitted through the Federal e-rulemaking portal at http://www.regulations.gov.

We consider applications, comments, and other available information when determining which applicant will be designated.

Authority: 7 U.S.C. 71-87k.

Erin Morris,
Associate Administrator, Agricultural Marketing Service.

[FR Doc. 2021-13703 Filed 6-25-21; 8:45 am]

BILLING CODE P